NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (AC OPP) (1130).

Date and Time: March 20, 2023; 2:00 p.m. to 3:00 p.m. EST.

Place: National Science Foundation 2415 Eisenhower Avenue, Alexandria, VA 22314 | Virtual via Zoom.

A virtual link will be posted on the AC OPP website at: https://nsf.gov/geo/opp/advisory.jsp.

Type of Meeting: Open.

Contact Person: Sara Eckert, Office of Polar Programs, National Science Foundation, 2415 Eisenhower Ave., Alexandria, VA 22314; Contact: (703) 292-7899, seckert@nsf.gov.

Purpose of Meeting: Advisory committee review of Science Advisory Subcommittee (SASC) report.

Agenda: Review and evaluate the SASC report(s), and vote on whether the report(s) should be forwarded to the NSF Office of Polar Programs.

Dated: February 17, 2023.
Crystal Robinson,
Committee Management Officer.

[FR Doc. 2023-03709 Filed 2-22-23; 8:45 am]

BILLING CODE 7555-01-P